DEPARTMENT OF DEFENSE

Department of the Air Force

Privacy Act of 1974; System of Records

AGENCY: Department of the Air Force, DoD.

ACTION: Notice to alter systems of records.

SUMMARY: The Department of the Air Force is proposing to alter an existing system of records notice in its inventory of records systems subject to the Privacy Act of 1974 (5 U.S.C. 552a), as amended. The alteration consists of adding a new category of individuals covered, i.e., non-maintenance organizations may use CAMS to maintain personnel and training data relating to their individuals.

DATES: The actions will be effective on January 8, 2004 unless comments are received that would result in a contrary determination.

ADDRESSES: Send comments to the Air Force FOIA/Privacy Manager, AF-CIO/P, 1155 Air Force Pentagon, Washington, DC 20330-1155.

FOR FURTHER INFORMATION CONTACT: Mrs. Anne P. Rollins at (703) 601-4043.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on November 17, 2003, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 20, 2003.
Patricia L. Toppings,
Alternate OSD Federal Register Liaison Officer, Department of Defense.

F021 AF IL A

System name:

Core Automated Maintenance System (CAMS) (June 11, 1997, 62 FR 31793).

Changes:

* * * * *

Categories of individuals covered by the system:

Delete entry and replace with ‘Individuals assigned to installations that maintain aircraft, missiles, communications-electronics and associated equipment. Non-maintenance organizations may use CAMS to maintain personnel and training data relating to their individuals.’

Categories of records in the system:

Delete entry and replace with ‘Personnel records related to an individual's on-the-job training certification, qualifications, and training.’

* * * * *

Purpose(s):

Delete entry and replace with ‘Used to establish and maintain personnel data and on-the-job training records.’

* * * * *

Storage:

Add to entry ‘and computer output products.’

Retention and disposal:

Delete entry and replace with ‘Maintained until superseded, obsolete, or no longer needed. Destroy paper records by tearing, pulping, burning, shredding, or macerating. Destroy computer records by overwriting or degaussing.’

* * * * *

F021 AF IL A

System name:

Core Automated Maintenance System (CAMS).

System location:

All Air Force installations utilizing the Core Automated Maintenance System (CAMS). Official mailing addresses are published as an appendix to the Air Force’s compilation of record systems notices.

Categories of individuals covered by the system:

Individuals assigned to installations that maintain aircraft, missiles, communications-electronics and associated equipment. Non-maintenance organizations may use CAMS to maintain personnel and training data relating to their individuals.

Categories of records in the system:

Personnel records related to an individual's on-the-job training certification, qualifications, and training.

Authority for maintenance of the system:

10 U.S.C. 8013, Secretary of the Air Force; Air Force Instruction 21-101, Aerospace Equipment Maintenance Management; Air Force Instruction 36-2232, Maintenance Training, and E.O. 9397 (SSN).

Purpose(s):

Used to establish and maintain personnel data and on-the-job training records.

Routine uses of records maintained in the system, including categories of users and the purposes of such uses:

In addition to those disclosures generally permitted under 5 U.S.C. 552a(b) of the Privacy Act, these records, or information contained therein, may specifically be disclosed outside the DOD as a routine use pursuant to 5 U.S.C. 552a(b)(3) as follows:

The DoD ‘Blanket Routine Uses’ published at the beginning of the Air Force's compilation of systems of records notices apply to this system.

Policies and practices for storing, retrieving, accessing, retaining, and disposing of records in the system:

Storage:

Maintained on disks or tapes and computer output products.

Retrievability:

Retrieved by name, man number, or Social Security Number.

Safeguards:

Records are accessed by person(s) responsible for servicing the record system in performance of their official duties. Records are controlled by computer system software.

Retention and disposal:

Maintained until superseded, obsolete, or no longer needed. Destroy paper records by tearing, pulping, burning, shredding, or macerating. Destroy computer records by overwriting or degaussing.

System manager(s) and address:

Chief, Maintenance Data Systems Analysis Section; individuals in charge of documentation or files maintenance section at each unit utilizing CAMS or the Host Database Manager. Official mailing addresses are published as an appendix to the Air Force's compilation of systems of records notices.

Notification procedure:

Individuals seeking to determine whether information about themselves is contained in this system should address written inquiries to or visit the individuals in charge of documentation or files maintenance section at each unit utilizing CAMS or the Host Database Manager. Official mailing addresses are published as an appendix to the Air Force's compilation of systems of records notices.

Record access procedures:

Individuals seeking access to information about themselves contained in this system should address written inquiries to or visit the individuals in charge of documentation or files maintenance section at each unit utilizing CAMS or the Host Database Manager. Official mailing addresses are published as an appendix to the Air Force's compilation of systems of records notices.

Contesting record procedures:

The Air Force rules for accessing records and for contesting contents and appealing initial agency determinations are published in Air Force Instruction 37-132; 32 CFR part 806b; or may be obtained from the system manager.

Record source categories:

Information obtained from automated system interfaces and source documents such as reports.

Exemptions claimed for the system:

None.

[FR Doc. 03-30402 Filed 12-8-03; 8:45 am]

BILLING CODE 5001-06-U